INTERNATIONAL TRADE COMMISSION

Request for Comments Concerning the Institution of Section 751(b) Review Investigations; Certain Frozen Warmwater Shrimp From India and Thailand

AGENCY: United States International Trade Commission.

ACTION: Request for comments regarding the institution of section 751(b) review investigations concerning the Commission's affirmative determinations in investigations Nos. 731-TA-1066 and 1067 (Final), certain frozen or canned warmwater shrimp and prawns from India and Thailand.

SUMMARY: The Commission invites comments from the public, including but not limited to interested parties, on whether changed circumstances exist sufficient to warrant the institution of investigations pursuant to section 751(b) of the Tariff Act of 1930 (19 U.S.C. 1675(b)) (the Act) to review the Commission's affirmative determinations in investigations Nos. 731-TA-1066-1067 (Final). The purpose of the proposed review investigations is to determine whether revocation of the existing antidumping duty orders on imports of certain frozen warmwater shrimp from India and Thailand is likely to lead to continuation or recurrence of material injury (19 U.S.C. 1675(b)(2)(A)). Certain frozen warmwater shrimp are provided for in subheadings 0306.13.00 and 1605.20.10 of the Harmonized Tariff Schedule of the United States.

EFFECTIVE DATE: February 8, 2005.

FOR FURTHER INFORMATION CONTACT: Jim McClure (202-205-3191), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this matter may be viewed on the Commission's electronic docket (EDIS) at http://edis.usitc.gov.

SUPPLEMENTARY INFORMATION: Background.—On December 23, 2004, the Department of Commerce determined that imports of certain frozen and canned warmwater shrimp from India and Thailand are being sold in the United States at less than fair value (LTFV) within the meaning of section 731 of the Act (19 U.S.C. 1673) (69 FR 76916 and 76918, respectively, December 23, 2004); and on January 21, 2005 the Commission determined, pursuant to section 735(b)(1) of the Act (19 U.S.C. 1673d(b)(1)), that an industry in the United States producing certain non-canned warmwater shrimp and prawns was materially injured by reason of LTFV imports (70 FR 3943, January 27, 2005). Accordingly, Commerce ordered that antidumping duties be imposed on such imports of certain frozen warmwater shrimp (70 FR 5147 (India) and 5145 (Thailand), February 1, 2005).

On January 6, 2005, when the Commission conducted its vote in these investigations, it stated that it was concerned about the possible impact of the December 26, 2004, tsunami on the shrimping industries of India and Thailand. The tsunami occurred prior to the closing of the record in these investigations on December 27, 2004. At the time the record closed, however, factual information as to any impact of the tsunami on the ability of producers in India or Thailand to produce and export shrimp was not available. At the vote and in its views in these investigations, the Commission stated its intention to collect information as to whether the tsunami's impact on the affected countries' industries warrants the Commission self-initiating a changed circumstances review under 19 U.S.C. 1675(b). A decision as to whether changed circumstance reviews will be instituted as to India and/or Thailand will be made following the collection and analysis of information submitted.

Written comments requested.—Pursuant to section 207.45(b) of the Commission's Rules of Practice and Procedure, the Commission requests comments concerning whether there are changed circumstances brought about by the effects of the December 26, 2004 tsunami on the shrimp industries of India and Thailand sufficient to warrant institution of review investigations. Information submitted to the Commission should address the impact of the tsunami on the ability of the shrimp industries in India and Thailand to produce and export shrimp to the United States. This information may include, but is not necessarily limited to, an analysis of the condition of shrimp hatcheries, ponds, fishing fleet, and processing and storage facilities post-tsunami; estimates of the share of the countries' historical production that has been impacted by the tsunami; estimates of the cost and time required to repair, restock, or rebuild any damaged or destroyed production, storage, or transportation infrastructure; and any data on current inventories of shrimp in these countries which may be exported to the United States.

Written submissions.—Comments must be filed with the Secretary to the Commission no later than 45 days after the date of publication of this notice in the Federal Register. The Commission will make its determinations regarding institution of review investigations within 30 days of the close of the comment period. All written submissions must conform with the provisions of section 201.8 of the Commission's rules; any submissions that contain business proprietary information must also conform with the requirements of section 201.6 of the Commission's rules. Such requests should be directed to the Secretary of the Commission and must include a full statement of the reasons why the Commission should grant such treatment. Each sheet must be clearly marked at the top “Confidential Business Information.” The Commission will either accept the submission in confidence or return it. The Commission's rules do not authorize filing of submissions with the Secretary by facsimile. The Secretary accepts documents filed electronically through the Commission's Electronic Document Imaging System (EDIS), on the World Wide Web at http://edis.usitc.gov. Documents must contain only public information; cannot contain exhibits of original documents, such as certified copies; and must meet certain size limits. Filing requirements are outlined on the EDIS Web site and by section 201.8 of the Commission's rules, as amended, 67 FR 68036 (November 8, 2002).

Authority: This notice is published pursuant to section 207.45 of the Commission's rules.

By order of the Commission.
Issued: February 3, 2005.
Marilyn R. Abbott,
Secretary to the Commission.

[FR Doc. 05-2460 Filed 2-7-05; 8:45 am]

BILLING CODE 7020-02-P